DEPARTMENT OF EDUCATION

Office of Innovation and Improvement; Notice Extending the Deadline Date for Transmittal of Applications for the Teaching American History Program Fiscal Year (FY) 2006 Competition

Catalog of Federal Domestic Assistance (CFDA) Number: 84.215X.

SUMMARY: On December 6, 2005, we published in the Federal Register (70 FR 72624) a notice inviting applications for the Teaching American History program's FY 2006 competition. The original notice for this FY 2006 competition established a February 3, 2006, deadline date for eligible applicants to apply for funding under this program. For this competition, applicants are required to submit their applications electronically through the Department's Electronic Grant Application System (e-Application). In order to accommodate a move of the e-Application system, which will result in the unavailability of the system on the original deadline date, we are extending the deadline date for transmittal of applications for the Teaching American History program FY 2006 competition.

DATES: Deadline for Transmittal of Applications: February 9, 2006. (Applications must be received by e-Application no later than 4:30 p.m., Washington, DC time.)

Note: Applications for grants under the Teaching American History program must be submitted electronically using e-Application available through the Department's e-Grants system. You may not e-mail an electronic copy of a grant application to us. For information about how to submit your application electronically, please refer to section IV. 6. Other Submission Requirements in the December 6, 2005 notice (70 FR 72624). We have not extended the deadline for submitting a statement that an applicant qualifies for an exception to the electronic submission requirement.

Deadline for Intergovernmental Review: The deadline date for Intergovernmental Review under Executive Order 12732 is extended to April 10, 2006.

FOR FURTHER INFORMATION CONTACT: Alex Stein, U.S. Department of Education, 400 Maryland Avenue, SW., room 4W206, Washington, DC 20202-5960. Telephone: (202) 205-9085 or by e-mail: alex.stein@ed.gov.

If you use a telecommunications device for the deaf (TDD), you may call the Federal Relay Service (FRS) at 1-800-877-8339.

Individuals with disabilities may obtain this document in an alternative format (e.g., Braille, large print, audiotape, or computer diskette) on request to the program contact person listed in this section.

SUPPLEMENTARY INFORMATION: Any eligible applicant may apply for funding under this program by the deadline date established in this notice. Eligible applicants that submit their applications for the Teaching American History program FY 2006 competition to the Department before the competition's original deadline date of 4:30 p.m., February 3, 2006, are not required to resubmit their applications or reapply in order to be considered for FY 2006 awards under this program. We encourage eligible applicants to submit their applications as soon as possible to avoid any problems with submitting electronic applications on the deadline date. The deadline for submission of applications will not be extended any further.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: January 12, 2006.
Nina Shokraii Rees,
Assistant Deputy Secretary for Innovation and Improvement.

[FR Doc. E6-505 Filed 1-17-06; 8:45 am]

BILLING CODE 4000-01-P